DEPARTMENT OF LABOR

Employment and Training Administration

[TA-W-65,503]

Gerber Technology, Richardson, TX; Notice of Termination of Investigation

Pursuant to Section 221 of the Trade Act of 1974, as amended, an investigation was initiated on March 6, 2009 in response to a petition filed by a company official on behalf of the workers of Gerber Technology, Richardson, Texas.

The petitioner has requested that the petition be withdrawn. Consequently, the investigation has been terminated.

Signed at Washington, DC, this 26th day of March 2009.
Richard Church,
Certifying Officer, Division of Trade Adjustment Assistance.

[FR Doc. E9-8935 Filed 4-17-09; 8:45 am]

BILLING CODE 4510-FN-P